DEPARTMENT OF TRANSPORTATION

Office of the Secretary

49 CFR Part 10

[Docket No. OST-96-1437; Notice 2000-1]

RIN 2105-AC57

Privacy Act of 1974; Implementation

AGENCY: Office of the Secretary, Department of Transportation (DOT).

ACTION: Proposed rulemaking.

SUMMARY: DOT proposes to exempt from certain provisions of the Privacy Act the record system designed to assist in finding Suspected Unapproved Parts used in aviation, and a record system used to manage the flow of data about commercial motor carriers. An editorial correction is also proposed to some existing language. Public comment is invited.

DATES: Comments are due February 20, 2001.

ADDRESSES: Comments should be addressed to Documentary Services Division, Attention: Docket Section, Room PL401, Docket No. OST-96-1437, Department of Transportation, SVC-124, Washington, DC 20590-0001. Any person wishing acknowledgment that his/her comments have been received should include a self-addressed stamped postcard. Comments received will be available for public inspection and copying in the Documentary Services Division, Room PL401, Department of Transportation Building, 400 Seventh Street, SW., Washington, DC, from 9 AM to 5 PM ET Monday through Friday except Federal holidays.

FOR FURTHER INFORMATION CONTACT: Yvonne Coates, S-80, Office of the Chief Information Officer, Department of Transportation, Washington, DC 20590-0001; telephone: 202-366-6964; fax: 202-366-7024; e-mail: yvonne.coates@ost.dot.gob.

SUPPLEMENTARY INFORMATION: Aviation. To assist in the ongoing campaign of the Department's Federal Aviation Administration against defective and dangerous parts being used in aircraft, DOT is establishing a Privacy Act record system in which evidence will be gathered as investigations are conducted (DOT/FAA 852 Suspected Unapproved Parts (SUP) Program). Motor Carriage. The recent establishment of DOT's Federal Motor Carrier Safety Administration has led to the development of a management information system (Motor Carrier Management Information System, DOT/FMCSA 001) that will encompass, among other things, safety investigations of commercial motor carriers and of their drivers. In both instances, investigations can result in criminal prosecutions. To facilitate the cooperation of persons who have information relevant to these investigations and who ask for confidentiality as a condition of their providing that information, DOT proposes to exempt these systems from subsections (c)(3) (Accounting for Certain Disclosures), (d) (Access to Records), (e)(4)(G), (H), and (I) (Agency Requirements), and (f) (Agency Rules) of the Privacy Act, 5 USC 552a. If we do not exempt this system from these provisions, persons who are subjects of investigation will be able to learn that they are and who has provided information about them, both of which could well frustrate any investigation.

Finally, in the Appendix, a reference to subsection (e)(4)(I) was inadvertently omitted from, and section (g) was inadvertently included in explanatory paragraph 2 at the end of, paragraph A.

List of subjects in 49 CFR Part 10

Privacy.

Accordingly, DOT proposes to amend the Appendix of Part 10 of 49 CFR as follows:

1. The authority citation for Part 10 continues to read as follows:

Authority: 5 USC 552a; 49 USC 322.

2. Part II A. of the Appendix is amended by adding new paragraphs 17 and 18, and by revising the first sentence of explanatory paragraph 2 to read as follows:

* * * * *

Part II. Specific Exemptions.

A. The following systems of records are exempt from subsections (c)(3) (Accounting of Certain Disclosures), (d) (Access to Records, (e)(4)(G), (H), (I) (Agency Requirements) and (f) (Agency rules) of 5 USC 552a, to the extent that they contain investigatory material for law enforcement purposes in accordance with 5 USC 552a(k)(2):

17. Suspected Unapproved Parts (SUP) Program, maintained by the Federal Aviation Administration (DOT/FAA 852).

18. Motor Carrier Management Information System (MCMIS), maintained by the Federal Motor Carrier Safety Administration (DOT/FMCSA 001).

These exemptions are justified for the following reasons:

* * * * *

2. From subsections (d), (e)(4)(G), (H), and (I), and (f), because granting an individual access to investigative records, and granting him/her access to investigative records with that information, could interfere with the overall law enforcement process by revealing a pending sensitive investigation, possibly identify a confidential source, disclose information that would constitute an unwarranted invasion of another individual's personal privacy, reveal a sensitive investigative technique, or constitute a potential danger to the health or safety of law enforcement personnel. * * *

Dated: December 28, 2000.
Eugene K. Taylor, Jr.,
Deputy Chief Information Officer, U.S. Department of Transportation.

[FR Doc. 01-191 Filed 1-5-01; 8:45 am]

BILLING CODE 4910-62-M